DEPARTMENT OF THE INTERIOR

Fish and Wildlife Service

[FWS-R4-R-2009-N139; 40136-1265-0000-S3]

Bayou Sauvage National Wildlife Refuge, Orleans Parish, LA

AGENCY: Fish and Wildlife Service, Interior.

ACTION: Notice of availability: final comprehensive conservation plan and finding of no significant impact.

SUMMARY: We, the U.S. Fish and Wildlife Service (Service), announce the availability of our final comprehensive conservation plan (CCP) and finding of no significant impact (FONSI) for the environmental assessment for Bayou Sauvage National Wildlife Refuge (NWR). In the final CCP, we describe how we will manage this refuge for the next 15 years.

ADDRESSES: A copy of the CCP may be obtained by writing to: Mr. Pon Dixson, Deputy Project Leader, Southeast Louisiana National Wildlife Refuge Complex, 61389 Highway 434, Lacombe, LA 70445. The CCP may also be accessed and downloaded from the Service's Web site: http://southeast.fws.gov/planning/.

FOR FURTHER INFORMATION CONTACT: Mr. Pon Dixson; telephone: 985/882-2014; fax: 985/882-9133; e-mail: pon_dixson@fws.gov.

SUPPLEMENTARY INFORMATION:

Introduction

With this notice, we finalize the CCP process for Bayou Sauvage NWR. We started this process through a notice in the Federal Register on May 16, 2007 (72 FR 27585). For more about the process, see that notice.

Bayou Sauvage NWR is located in eastern Orleans Parish, Louisiana, and is entirely situated within the corporate limits of the city of New Orleans. It is the largest national wildlife refuge located in an urban area and is one of the last remaining marsh areas adjacent to the south shores of Lakes Pontchartrain and Borgne. The refuge consists of 24,000 acres of wetlands and is bordered on three sides by water: Lake Pontchartrain to the north, Chef Menteur Pass to the east, and Lake Borgne to the south. The western side of the refuge is bordered by the Maxent Canal, and lands consisting of bottomland hardwood habitats and exotic species, such as Chinese tallow and china berry. Un-leveed portions of the refuge consist of estuarine tidal marshes and shallow water. The Hurricane Protection Levee System, along with roadbeds, created freshwater impoundments, which altered the plant communities as well as the fish communities within these impoundments. Small forested areas exist on the low, natural ridges formed along natural drainages and along manmade canals.

We announce our decision and the availability of the CCP and FONSI for Bayou Sauvage NWR in accordance with National Environmental Policy Act (NEPA) [40 CFR 1506.6(b)] requirements. We completed a thorough analysis of impacts on the human environment, which we included in the draft comprehensive conservation plan and environmental assessment (Draft CCP/EA). The CCP will guide us in managing and administering Bayou Sauvage NWR for the next 15 years. Alternative B is the foundation for the CCP.

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

We solicited comments on the Draft CCP/EA for Bayou Sauvage NWR as announced in the Federal Register on April 24, 2009 (72 FR 18742). Ten respondents, consisting of the Louisiana Department of Wildlife and Fisheries, the Louisiana Department of Environmental Quality, local and national non-profit organizations, and local citizens, submitted written comments by mail or e-mail.

Selected Alternative

After considering the comments we received and based on the professional judgment of the planning team, we selected Alternative B to implement the CCP. The primary focus of the CCP will be to restore and improve refuge resources needed for wildlife and habitat management and to provide additional public use opportunities. Implementing the CCP will allow us to provide law enforcement protection that adequately meets the demands of an urban environment.

We will focus on augmenting wildlife and habitat management to identify, conserve, and restore populations of native fish and wildlife species, with an emphasis on migratory birds and threatened and endangered species. This will partially be accomplished by increased monitoring of waterfowl, other migratory birds, and endemic species in order to assess and adapt management strategies and actions. The restoration of fresh and brackish marsh systems and hardwood forests will be crucial to ensuring healthy and viable ecological communities as the area recovers from the devastation of Hurricane Katrina. This restoration will require increased wetland vegetation and tree plantings, and the use of beneficial dredge, breakwater structures, and organic materials to promote reestablishment of emergent marsh and to reduce wave energy erosion along Lakes Pontchartrain and Borgne. Improving and monitoring water quality and managing moist soil will assist in reestablishing freshwater marsh habitat.

We will more aggressively control and, where possible, eliminate invasive plant species. The control of the Chinese tallow trees and cogon grass along the hardwood ridge will be a focal point. The control of nuisance wildlife will increase to include yearly population evaluations and more aggressive trapping programs for feral hogs and nutria.

Visitor services will be enhanced by: (1) Improving and providing additional fishing opportunities; (2) considering limited hunting opportunities on the refuge; (3) providing environmental education that emphasizes refuge restoration activities, coastal conservation issues, and the diversity of water management regimes in the aftermath of Hurricane Katrina; (4) establishing a visitor center or contact station; (5) developing and implementing a visitor services management plan; and (6) enhancing personal interpretive opportunities. Volunteer programs and friends groups also will be expanded to enhance all aspects of refuge management and to increase resource availability.

Land acquisitions within the approved acquisition boundary will be based on importance of the habitat for target management species and public use value. The refuge headquarters will not only house administrative offices, but will offer interpretation of wildlife and habitats. We will demonstrate habitat improvements for individual landowners. The headquarters facility will be developed as an urban public use area with trails; buildings presently not being used and landscaping will be refurbished for visitor and community outreach.

We will enforce all Federal and State laws applicable to the refuge in order to protect archaeological and historical sites. We will develop a plan to protect all known sites. The allocation of a law enforcement officer will not only provide security for these resources, but will also ensure visitor safety and public compliance with refuge regulations.

Authority

This notice is published under the authority of the National Wildlife Refuge System Improvement Act of 1997, Public Law 105-57.

Dated: July 31, 2009.
Jeffrey Fleming,
Acting Regional Director.

[FR Doc. E9-22303 Filed 9-15-09; 8:45 am]

BILLING CODE 4310-55-P